DEPARTMENT OF THE INTERIOR

Fish and Wildlife Service

[FWS-R4-ES-2015-N086; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below by June 19, 2015.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Karen Marlowe, Permit Coordinator).

FOR FURTHER INFORMATION CONTACT: Karen Marlowe, 10(a)(1)(A) Permit Coordinator, telephone 205-726-2667; facsimile 205-726-2479.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or send them via electronic mail (email) to permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 100070-2

Applicant: J. Alison Cochran, U.S. Forest Service, Double Springs, Alabama

The applicant requests renewal of her permit to take (enter hibernacula and maternity roosts, capture via mist-net or harp trap, band, radio-tag, collect hair and fecal samples, wing-punch, light-tag, and salvage) Indiana bats (Myotis sodalis) and gray bats (Myotis grisescens) and to add authorization to conduct the same activities with the northern long-eared bat (Myotis septentrionalis) on U.S. Forest Service lands in the State of Alabama.

Permit Application Number: TE 64232B-0

Applicant: Joshua R. Young, Lexington, Kentucky

The applicant requests a permit to take (capture, handle, identify, tag, and release) the gray bat (Myotis grisescens), Indiana bat (Myotis sodalis), northern long-eared bat (Myotis septentrionalis), Virginia big-eared bat (Corynorhinus (=plecotus) townsendii virginianus) and 29 species of freshwater mussels for purposes of conducting presence/absence surveys and habitat and population monitoring in Kentucky.

Permit Application Number: TE 171516-4

Applicant: Mark Gumbert, Copperhead Consulting, Paint Lick, Kentucky

The applicant requests an amendment of his current permit to add authorization to conduct surveys for the rayed bean (Villosa fabalis) and to expand the geographic area of permitted activities to include the State of West Virginia.

Permit Application Number: TE 206741-1

Applicant: Veronica Mullen, Metro Water Services, Nashville, Tennessee

The applicant requests renewal of her current permit to take (capture, identify, measure, sex, release) Nashville crayfish (Orconectes shoupi) for the purposes of conducting presence/absence studies and population surveys in Davidson County, Tennessee.

Permit Application Number: TE 62778B-0

Applicant: Chanston Osborne, Apogee Environmental, Richmond, Kentucky

The applicant requests authorization to take (enter hibernacula, capture with mist nets or harp traps, handle, identify, band, radio-tag) Indiana bats (Myotis sodalis) and northern long-eared bats (Myotis septentrionalis) for the purpose of conducting presence/absence surveys throughout the species' respective ranges.

Permit Application Number: TE 65346A-1

Applicant: Matthew Roberts, Apogee Environmental, Berea, Kentucky

The applicant requests renewal and amendment of his current permit to take (enter hibernacula, capture with mist nets or harp traps, handle, identify, band, radio-tag) Indiana bats (Myotis sodalis), gray bats (Myotis grisescens), and northern long-eared bats (Myotis septentrionalis) for the purpose of conducting presence/absence surveys throughout the species' respective ranges.

Permit Application Number: TE 65002A-1

Applicant: Robert Oney, Apogee Environmental, Winchester, Kentucky

The applicant requests renewal and amendment of his current permit to take (enter hibernacula, capture with mist nets or harp traps, handle, identify, band, radio-tag) Indiana bats (Myotis sodalis), gray bats (Myotis grisescens), and northern long-eared bats (Myotis septentrionalis) for the purpose of conducting presence/absence surveys throughout the species' respective ranges.

Permit Application Number: TE 007748-3

Applicant: Jason Nolde, USDA Forest Service, Pineville, Louisiana

The applicant requests renewal of the current permit to take (capture, band, translocate, install artificial nest cavities and restrictors, monitor nest cavities) red-cockaded woodpeckers (Picoides borealis), primarily for population monitoring and management in Louisiana and, secondarily, to assist in recovery activities throughout the species' range in Kentucky, Mississippi, South Carolina, Florida, Georgia, Arkansas, North Carolina, Tennessee, and Alabama.

Permit Application Number: TE 63355B-0

Applicant: David Heil, T.H.E. Engineers, Lexington, Kentucky

The applicant requests authorization to take (capture with mist nets or harp traps, handle, identify, band, and radio-tag) Indiana bats (Myotis sodalis), gray bats (Myotis grisescens), northern long-eared bats (Myotis septentrionalis), and Virginia big-eared bats (Corynorhinus townsendii ingens) for the purpose of conducting presence/absence surveys in Kentucky.

Permit Application Number: TE 63357B-0

Applicant: Timothy Estep, Worcester, Massachusetts

The applicant requests authorization to sell in interstate commerce artificially propagated green pitcher plants (Sarracenia oreophila), Alabama canebrake pitcher plants (Sarracenia rubra ssp. alabamensis), mountain sweet pitcher-plants (Sarracenia rubra ssp. jonesii), and hairy rattleweeds (Baptisia arachnifera) throughout the United States.

Permit Application Number: TE 056217-4

Applicant: Jeanette Wyneken, Florida Atlantic University, Boca Raton, Florida

The applicant requests renewal of her current permit to take (survey, collect hatchlings, hold in captivity, examine, and release) leatherback (Dermochelys coriacea), green (Chelonia mydas), and loggerhead (Caretta caretta) sea turtles for the purposes of inventory, monitoring, and research activities.

Dated: May 11, 2015.
Leopoldo Miranda,
Assistant Regional Director—Ecological Services, Southeast Region.

[FR Doc. 2015-12188 Filed 5-19-15; 8:45 am]

BILLING CODE 4310-55-P